DEPARTMENT OF AGRICULTURE

Forest Service

Shasta-Trinity National Forest, CA; Supplemental Environmental Impact Statement for the Gemmill Thin Project

AGENCY: Forest Service, USDA.

ACTION: Notice of intent to supplement an environmental impact statement.

SUMMARY: On April 16, 2009, J. Sharon Heywood, Forest Supervisor for the Shasta-Trinity National Forest, issued a Record of Decision (ROD) for the Gemmill Thin Project Final Environmental Impact Statement (FEIS). The decision to implement Alternative 1 (proposed action) as described in the FEIS and ROD was appealed by the Klamath Siskiyou Wildlands Center and the Conservation Congress on behalf of Citizens for Better Forestry and the Klamath Forest Alliance. On July 23, 2009, Appeal Deciding Officer/Deputy Regional Forester, Beth Pendleton, reversed the decision due to the lack of a reasonable range of alternatives analyzed in the FEIS. The Shasta-Trinity National Forest will prepare a supplemental environmental impact statement (SETS) for the Gemmill Thin Project to provide analysis of additional alternatives to the proposed action.

DATES: The draft SETS is expected to be issued in November 2009 and the final SETS is expected in March 2010.

ADDRESSES: Shasta-Trinity National Forest, 3644 Avtech Parkway, Redding, CA 96002.

FOR FURTHER INFORMATION CONTACT: Bobbie DiMonte Miller, Natural Resource Planner, Shasta-Trinity National Forest, 3644 Avtech Parkway, Redding, CA 96002, telephone (530) 226-2425, e-mail bdimonte@fs.fed.us.

SUPPLEMENTARY INFORMATION: The Forest Service is proposing to prepare a supplement to the final environmental impact statement for the Gemmill Thin Project in accordance with FSH 1909.15—Chapter 10—Section 18.1 and Section 18.2.

This “SEIS will address and respond specifically to the Appeal Reviewing Officer's Findings and Recommendations” found in the Appeal Deciding Officer's letter dated July 23, 2009, which states: “Appeal Reviewing Officer (ARO), Tina Terrell, Forest Supervisor of the Sequoia National Forest found that Forest Supervisor Sharon Heywood's decision was an appropriate and reasonable response to direction in the Northwest Forest Plan and the Shasta-Trinity National Forest Land and Resource Management Plan. The Forest Supervisor provided information supporting the logic and rationale in selecting the proposed alternative and the associated activities. Documentation provided by the Forest Supervisor demonstrated compliance with the Forest Land and Resource Management Plan in light of the appeal issues. However, the Forest Supervisor failed to analyze a reasonable range of alternatives in the FEIS. ARO Tina Terrell recommended reversing the Forest Supervisor's decision. I agree with the ARO's analysis as presented in the recommendation letter. All appeal issues raised have been considered. I reverse the Forest Supervisor's decision to implement Alternative 1 due to the lack of a reasonable range of alternatives analyzed in the FEIS.”

The original notice of intent for this project was published in the Federal Register December 12, 2005, and again June 1, 2007. The notice of availability of the Gemmill Thin Project draft environmental impact statement was published in the Federal Register on November 11, 2008, and the notice of availability of the FEIS was published in the Federal Register on May 1, 2009. The April 2009 ROD for the Gemmill Thin Project FEIS and other relevant documentation can be found on the Forest Web site at: http://www.fs.fed.us/r5/shastatrinity/projects/sfmuprojects.shtml.

Purpose and Need for Action

The purpose and need for the project remains as described in Chapter 1, pages through 11, of the FEIS. The draft SEIS will provide additional analysis and supplemental information specific to the development of a reasonable range of alternatives.

As noted in the FEIS (page 4) under Purpose and Need: The need for action was determined by comparing existing conditions in the field with the desired future condition as described in the Forest Plan (pages 4-165 through 4-168) for the Wildwood Management Area. Existing conditions were identified from extensive field review, computer modeling of fuels reduction treatments and wildfire behavior/effects and interdisciplinary planning. The interdisciplinary team identified several resource conditions where desired conditions described in the Forest Plan differ from the existing condition. The following existing conditions, with associated management goals, describe the purpose and need and are the basis for the proposed action:

• Excessive fuel accumulations and fuel ladders. There is a need to reduce the risk of losing existing and developing late-successional habitat due to wildfire and a need to use fire as a tool to maintain lower fuel loading.

• Insufficient amount of late-successional habitat. There is a need to encourage or accelerate the development of contiguous late-successional and old growth habitat.

Proposed Action

The proposed action would reduce fuels in the wildland urban interface and intermix areas adjacent to the rural community of Wildwood, California, and support the development of contiguous high quality old-growth habitat in the Chanchellula Late-Successional Reserve.

The proposed action, summarized below, encompasses a total of 1,618 acres.

• Thinning from below on approximately 1,279 acres of mixed conifer forest, which includes 300 acres of thinning within Riparian Reserve land allocation.

• Thinning from below on approximately 268 acres of mixed conifer forest to reconstruct a 30-year-old ridgetop shaded fuelbreak.

• Thinning 20-year-old plantations including mastication and/or biomass removal on approximately 44 acres.

• Fuels hazard reduction on approximately 27 acres of mid-slope fuel buffers adjacent to private land. Remove and pile by hand all snags ó19 inches in diameter and dead ground fuels for burning.

• Logging systems include: Tractor—1266 acres, cable—142 acres, helicopter—139 acres.

The proposed action includes additional post-harvest fuel reduction in thinning and fuels break units which will be accomplished by hand piling and burning, mastication, and/or biomass removal. Connected road-related activities include approximately 23.6 miles of road reconstruction, 1.7 miles of temporary road and 12.1 miles of road decommissioning post-project. There would be no new system road construction.

Lead and Cooperating Agencies

Lead Agency: USDA, Forest Service.

Responsible Official

J. Sharon Heywood, Forest Supervisor, Shasta-Trinity National Forest, 3644 Avtech Parkway, Redding, CA 96002.

Nature of Decision To Be Made

The Responsible Official will review the supplemental information and determine if modifications should be made to the decision presented in the April 16, 2009 ROD.

Scoping Process

Scoping is not required for supplements to environmental impact statements (40 CFR 1502.9(c)4).

Early Notice of Importance of Public Participation in Subsequent Environmental Review

A draft SETS will be prepared for review and comment. A legal notice will be published in the newspaper of record. A notice of availability will be published in the Federal Register to inform the public that the draft SETS is available for review. The draft SETS will be distributed to all holders of the April 2009 FEIS and ROD for the project, including those parties that appealed the April 2009 decision. The comment period on the draft SEIS will be 45 days from the publication date of the notice of availability in the Federal Register.

Timely submittal of comments on the draft SEIS ensures they can be meaningfully considered and responded to in the final SEIS. To assist the Forest Service in identifying and considering issues and concerns on the project, comments on the draft SETS should be as specific as possible. Comments should refer to specific pages or chapters of the draft SEIS. Comments may also address the adequacy of the draft SETS or the merits of the alternatives formulated and discussed in the statement. In addressing these points, reviewers may wish to refer to the Council on Environmental Quality Regulations for implementing the procedural provisions of the National Environmental Policy Act at 40 CFR 1503.3.

Comments received, including the names and addresses of those who comment, will be considered part of the public record on this proposal and will be available for public inspection (per 40 CFR 1501.7 and 1508.22).

Dated: September 30, 2009.
J. Sharon Heywood,
Forest Supervisor, Shasta-Trinity National Forest.

[FR Doc. E9-24145 Filed 10-7-09; 8:45 am]

BILLING CODE 3410-11-M